DEPARTMENT OF TRANSPORTATION

Federal Transit Administration

Transfer of Federally Assisted Facility

AGENCY: Federal Transit Administration (FTA), DOT.

ACTION: Notice of intent to transfer Federally assisted facility.

SUMMARY: Section 5334(h) of the Federal Transit Laws, as codified, 49 U.S.C. 5301, et seq., permits the Administrator of the Federal Transit Administration (FTA) to authorize a recipient of FTA funds to transfer land or a facility to a public body for any public purpose with no further obligation to the Federal Government if, among other things, no Federal agency is interested in acquiring the asset for Federal use. Accordingly, FTA is issuing this Notice to advise Federal agencies that the Louisiana Department of Transportation and Development (LaDOTD) intends to transfer property located at 415 Jackson Avenue, New Orleans, Louisiana, to the Port of New Orleans, a political subdivision of the State of Louisiana. LaDOTD used the property, building, and improvements for a ferry terminal until September 2009. The property is no longer being used to support ferry service.

The Port of New Orleans (Port) intends to use the property for administrative purposes to support its activities. The transfer will provide benefits to the Port by providing space for Port personnel to carry out administrative functions. The transfer will support efforts by the Port to expand container terminal capacity to address and capitalize projected growth in container traffic. In addition, Port ownership of the property and building will maintain a position of security in location and afford continuous visibility of the river from Port property. The Port plans to use the property and building for a minimum of 5 years.

DATES: Effective Date: Any Federal agency interested in acquiring the property and building must notify the FTA Region VI office of its interest no later than November 17, 2016.

ADDRESSES: Interested parties should notify the Regional Office by writing to Robert C. Patrick, Regional Administrator, Federal Transit Administration, 819 Taylor Street, Room 14A02, Fort Worth, TX 76102.

FOR FURTHER INFORMATION CONTACT: Eldridge Onco, Regional Counsel, (817) 978-0557.

SUPPLEMENTARY INFORMATION:

Background

49 U.S.C. 5334(h) provides guidance on the transfer of capital assets. Specifically, if a recipient of FTA assistance decides an asset acquired under this chapter at least in part with that assistance is no longer needed for the purpose for which it was acquired, the Secretary of Transportation may authorize the recipient to transfer the asset to a local governmental authority to be used for a public purpose with no further obligation to the Government. 49 U.S.C. 5334(h)(1).

Determinations

The Secretary may authorize a transfer for a public purpose other than mass transportation only if the Secretary decides:

(A) The asset will remain in public use for at least 5 years after the date the asset is transferred;

(B) There is no purpose eligible for assistance under this chapter for which the asset should be used;

(C) The overall benefit of allowing the transfer is greater than the interest of the Government in liquidation and return of the financial interest of the Government in the asset, after considering fair market value and other factors; and

(D) Through an appropriate screening or survey process, that there is no interest in acquiring the asset for Government use if the asset is a facility or land.

Federal Interest in Acquiring Land or Facility

This document implements the requirements of 49 U.S.C. 5334(h)(1)(D) of the Federal Transit Laws. Accordingly, FTA hereby provides notice of the availability of the facility further described below. Any Federal agency interested in acquiring the affected facility should promptly notify the FTA. If no Federal agency is interested in acquiring the existing facility, FTA will make certain that the other requirements specified in 49 U.S.C. 5334(h)(1)(A) through (C) are met before permitting the asset to be transferred.

Additional Description of Land or Facility

The total property consists of a mostly rectangular shaped 15,029 square foot area parcel, which is currently paved and improved with a one and one-half story concrete ferry terminal building, along with a portion of a pedestrian bridge. The property is located along the west bank of the Mississippi River along Tchoupitoulas Street and Jackson Street Avenue. The property is located in an area surrounded by wharf facilities operated by the Port of New Orleans. The interior and exterior of the building is in need of significant repair. The property is no longer being used to support ferry service.

If no Federal agency is interested in acquiring the property, building, and improvements, FTA will make certain that the other requirements specified in 49 U.S.C. 5334(h)(1)(A) through (C) are met before permitting the asset to be transferred.

Robert C. Patrick,
Regional Administrator, Federal Transit Administration Region VI.

[FR Doc. 2016-25121 Filed 10-17-16; 8:45 am]

BILLING CODE 4910-57-P